FEDERAL COMMUNICATIONS COMMISSION

47 CFR Parts 43 and 64

[IB Docket Nos. 02-324 and 96-261, FCC 04-53; DA 04-671]

In the Matter of International Settlements Policy Reform and International Settlement Rates

AGENCY: Federal Communications Commission.

ACTION: Final rules; announcement of effective date.

SUMMARY: This document containing information collection requirements announces the effective date of the rules published on April 28, 2004 and July 2, 2004. Those rules modified the application of its International Settlements Policy.

DATES: The amendments to §§ 43.51(d), 43.51(e), 64.1001, and 64.1002(c) published at 69 FR 23151 (April 28, 2004) are effective on October 25, 2004. The amendments to § 64.1001, adopted in 69 FR 40326 (July 2, 2004) are effective on October 26, 2004.

FOR FURTHER INFORMATION CONTACT: Peggy Reitzel, (202) 418-1460.

SUPPLEMENTARY INFORMATION: On March 3, 2004, the Commission released a Report and Order adopting a number of amendments to the Commission's rules regarding the International Settlements Policy (ISP), a summary of which was published in the Federal Register. See 69 FR 23151, April 28, 2004. We stated that the rules were effective on May 28, 2004, except for those sections containing new information collection requirements, which required approval by the Office of Management and Budget (OMB). Additional revisions to § 64.1001 were adopted later, 69 FR 29894 (May 26, 2004), and a correction to those later revisions was published in the Federal Register. See 69 FR 40326, July 2, 2004. The information collection requirements were approved by OMB on September 30, 2004. See OMB No. 3060-0454. This publication satisfies our statement that the Commission would publish a document announcing the effective date of the rules.

Federal Communications Commission.
William F. Caton,
Deputy Secretary.

[FR Doc. 04-23093 Filed 10-22-04; 8:45 am]

BILLING CODE 6712-01-P